DEPARTMENT OF JUSTICE

Antitrust Division

Notice Pursuant to the National Cooperative Research and Production Act of 1993—Silicon Integration Initiative, Inc. (“S12”)

Notice is hereby given that, on June 22, 1998, pursuant to Section 6(a) of the National Cooperative Research and Production Act of 1993, 15 U.S.C. 4301 et seq. (“the Act”), Silicon Integration Initiative, Inc. (“S12”) has filed written notifications simultaneously with the Attorney General and the Federal Trade Commission disclosing changes in its membership status. The notifications were filed for the purpose of extending the Act's provisions limiting the recovery of antitrust plaintiffs to actual damages under specified circumstances. Specifically, VLSI. San Jose, CA has been added as a party to this venture. Also, Avant!, Sunnyvale, CA; Compass Design Automation, San Jose, CA; Matsushita Electric Ind. Company, Osaka, JAPAN; National Semiconductor Corporation, Santa Clara, CA; Sun Microsystems, Inc., Mountain View, CA; Aspect Development, Boulder, CO; and Veda Design Automatic, LTD., Fareham, Hampshire, ENGLAND have been dropped as parties to this venture.

No other changes have been made in either the membership or planned activity of the group research project. Membership in this group research project remains open, and Silicon Integration Initiative, Inc. (“S12”) intends to file additional written notification disclosing all changes in membership.

On December 30, 1988, Silicon Integration Initiative, Inc. (“S12”) filed its original notification pursuant to Section 6(a) of the Act. The Department of Justice published a notice in the Federal Register pursuant to Section 6(b) of the Act on March 13, 1989 (54 FR 10456).

The last notification was filed with the Department on March 6, 1998. A notice has not yet been published in the Federal Register.

Constance K. Robinson,
Director of Operations, Antitrust Division.

[FR Doc. 00-8079 Filed 3-31-00; 8:45 am]

BILLING CODE 4410-11-M